DEPARTMENT OF HEALTH AND HUMAN SERVICES

Administration on Aging

[Program Announcement No. AoA-03-03]

Fiscal Year 2003 Program Announcement; Availability of Funds and Notice Regarding Applications

AGENCY: Administration on Aging, HHS.

ACTION: Announcement of availability of funds and request for applications for the Alzheimer's Disease Demonstration Grants to States Program.

SUMMARY: The Administration on Aging announces that under this program announcement it will hold a competition for grant awards for two (2) to three (3) projects at a Federal share of approximately $225,000-$350,000 per year for a project period of three years.

Legislative Authority: The Alzheimer's Disease Demonstration Grants to States Programs (ADDGS) was established under Section 398 of the Public Health Service Act (Pub. L. 78-410) as amended by Public Law 101-157, and by Public Law 105-379, the Health Professions Education Partnerships Act of 1998. (Catalog of Federal Domestic Assistance 93.051).

Purpose of grant awards: The purpose of these projects is to:

1. Develop models of home and community based care for persons with Alzheimer's disease and their families, and

2. Improve the existing home and community based care system to better respond to the needs of persons with dementia and their families, through improving the coordination and integrated access to health and social support services.

Eligibility for grant awards and other requirements: Eligibility for grant awards is limited to state agencies. The thirty-three (33) states currently funded under the Alzheimer's Demonstration Program are not eligible. Only one application per state will be accepted. Applicants must provide a letter from their state's Governor designating the applicant agency as the sole applicant for the state.

Grantees are required to provide a 25% non-federal match during the first year, 35% during the second year, and 45% during the third year of the grant. Executive Order 12372 is not applicable to these grant applications.

Review of applications: Applications will be evaluated against the following criteria: Purpose and Need for Assistance (15 points); Approach/Method—Workplan and Activities (35 points); Outcomes/Benefits/Impacts (25 points); and Level of Effort, Program Management, and Organizational Capacity (25 points).

DATES: The deadline date for the submission of applications is June 16, 2003.

ADDRESSES: Application kits are available by writing to the U.S. Department of Health and Human Services, Administration on Aging, Center for Planning and Policy Development, Washington, DC 20201; by calling 202/357-3452; or online at http://www.aoa.gov/egrants. Applications may be mailed to the U.S. Department of Health and Human Services, Administration on Aging, Office of Grants Management, Washington, DC 20201, attn: Margaret Tolson (AoA 03-03).

Applications may be delivered to the U.S. Department of Health and Human Services, Administration on Aging, Office of Grants Management, One Massachusetts Avenue, NW., Room 4604, Washington, DC 20001, attn: Margaret Tolson (AoA 03-03). Instructions for electronic mailing of grant applications available at http://www.aoa.gov/egrants/.

SUPPLEMENTARY INFORMATION: All grant applicants are encouraged to obtain a D-U-N-S number from Dun and Bradstreet. It is a nine-digit identification number, which provides unique identifiers of single business entities. The D-U-N-S number is free and easy to obtain from http://www.dnb.com/US/duns_update/.

FOR FURTHER INFORMATION CONTACT: U.S. Department of Health and Human Services, Administration on Aging, Office of Grants Management, Washington, DC 20201, telephone: (202) 357-3440.

Josefina G. Carbonell,
Assistant Secretary for Aging.

[FR Doc. 03-10721 Filed 4-30-03; 8:45 am]

BILLING CODE 4154-01-P